DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Roy E. Wright, Deputy Director, Risk Analysis Division, Federal Insurance and Mitigation Administration, Federal Emergency Management Agency, 500 C Street, SW., Washington, DC 20472, (202) 646-2820, or (e-mail) roy.e.wright@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Jefferson County, Alabama, and Incorporated Areas
Docket Nos.: FEMA-B-1022 and FEMA-B-1051
Dry Creek | Approximately 630 feet upstream of Navajo Trail Northeast | +722 | City of Center Point, Unincorporated Areas of Jefferson County.
| Just upstream of Chalkville Mountain Road | +958
Griffin Brook | Approximately 800 feet upstream of Lakeshore Drive | +631 | City of Homewood, Unincorporated Areas of Jefferson County.
| Approximately 90 feet upstream of Montgomery Highway | +788
Huckleberry Branch | Approximately 200 feet downstream of Tyler Road | +514 | City of Hoover, City of Vestavia Hills, Unincorporated Areas of Jefferson County.
| Approximately 1,500 feet upstream of Mountain Oaks Drive | +814
Little Shades Creek (Cahaba Basin) | Approximately 930 feet upstream of Loch Haven Drive | +432 | City of Hoover, City of Mountain Brook, City of Vestavia Hills, Unincorporated Areas of Jefferson County.
| Just upstream of Pipe Line Road | +626
Little Shades Creek (Shades Creek) | Just downstream Wenonah Oxmoor Road | +514 | City of Bessemer, City of Birmingham, Unincorporated Areas of Jefferson County.
| Approximately 2.3 miles downstream of Alabama Highway 150 | +632
Patton Creek | Approximately 0.6 mile downstream of Alabama Highway 150 | +423 | City of Hoover, City of Vestavia Hills, Unincorporated Areas of Jefferson County.
| Approximately 310 feet downstream of West Ridge Drive | +533
Pinchgut Creek | Approximately 0.7 mile downstream of Watterson Parkway | +691 | City of Birmingham, City of Trussville, Unincorporated Areas of Jefferson County.
| Approximately 2.0 miles upstream of Gadsden Highway | +846
Turkey Creek | Approximately 0.7 mile downstream of Old Bradford Road | +565 | City of Center Point, City of Clay, City of Pinson, Unincorporated Areas of Jefferson County.
| Approximately 950 feet upstream of Eagle Ridge Drive | +885
Unnamed Creek 9 | Just downstream of Alabama Highway 151 | +590 | City of Center Point, Unincorporated Areas of Jefferson County.
| Just downstream of Pinson Heights Road | +631
Unnamed Creek 10 | Approximately 515 feet downstream of Main Street | +607 | City of Center Point, City of Pinson, Unincorporated Areas of Jefferson County.
| Approximately 90 feet downstream of Houston Road | +667
Unnamed Creek 11 | Just upstream of Center Point Road | +626 | City of Center Point, City of Pinson, Unincorporated Areas of Jefferson County.
| Approximately 1,610 feet upstream of Green Crest Drive | +692
Valley Creek | Approximately 0.5 mile downstream of Power Plant Road | +431 | City of Bessemer, Unincorporated Areas of Jefferson County.
| Approximately 0.5 mile upstream of Power Plant Road | +440
* National Geodetic Vertical Datum.
+ North American Vertical Datum.
# Depth in feet above ground.
‸ Mean Sea Level, rounded to the nearest 0.1 meter.
ADDRESSES
City of Bessemer
Maps are available for inspection at 1800 3rd Avenue, North, Bessemer, AL 35020.
City of Birmingham
Maps are available for inspection at 710 20th Street, North, Birmingham, AL 35203.
City of Center Point
Maps are available for inspection at 2209 Center Point Parkway, Center Point, AL 35215.
City of Clay
Maps are available for inspection at 6757 Old Springville Road, Pinson, AL 35126.
City of Homewood
Maps are available for inspection at 1903 29th Avenue South, Birmingham, AL 35209.
City of Hoover
Maps are available for inspection at 100 Municipal Drive, Hoover, AL 35236.
City of Mountain Brook
Maps are available for inspection at 56 Church Street, Mountain Brook, AL 35213.
City of Pinson
Maps are available for inspection at 4410 Main Street, Pinson, AL 35126.
City of Trussville
Maps are available for inspection at 131 Main Street, Trussville, AL 35173.
City of Vestavia Hills
Maps are available for inspection at 513 Montgomery Highway, Vestavia Hills, AL 35085.
Unincorporated Areas of Jefferson County
Maps are available for inspection at 716 Richard Arrington, Jr. Boulevard North, Room 260, Birmingham, AL 35203.
Coconino County, Arizona, and Incorporated Areas
Docket No.: FEMA-B-1053
Bow and Arrow Wash | Approximately 50 feet downstream of South Lone Tree Road | +6,878 | City of Flagstaff.
| Approximately 1,800 feet upstream of Lake Mary Road | +6,949
Peak View Wash | At the confluence with the Rio de Flag | +7,113 | City of Flagstaff.
| Approximately 125 feet upstream of Lois Lane | +7,123
Rio de Flag | At Rio Rancho Road | +6,521 | City of Flagstaff, Unincorporated Areas of Coconino County.
| Approximately 150 feet downstream of Route 66 | +6,758
| At the Narrows Dam | +7,087
| Approximately 565 feet downstream of Hidden Hollow Road | +7,148
Schultz Creek | Approximately 175 feet upstream of North Fort Valley Road | +7,006 | City of Flagstaff, Unincorporated Areas of Coconino County.
| Approximately 0.57 mile upstream of Mary Russel Way | +7,140
Schultz Creek Ponding | Approximately 50 feet upstream of the confluence with the Rio de Flag | #1 | City of Flagstaff, Unincorporated Areas of Coconino County.
| Approximately 175 feet upstream of North Fort Valley Road | #1
Switzer Canyon Wash | Approximately 50 feet upstream of the upstream end of the East Route 66 Culvert | +6,869 | City of Flagstaff, Unincorporated Areas of Coconino County.
| Approximately 0.42 mile upstream of Elk Drive | +7,030
* National Geodetic Vertical Datum.
+ North American Vertical Datum.
# Depth in feet above ground.
‸ Mean Sea Level, rounded to the nearest 0.1 meter.
ADDRESSES
City of Flagstaff
Maps are available for inspection at Flagstaff City Hall, 211 West Aspen Avenue, Flagstaff, AZ 86001.
Unincorporated Areas of Coconino County
Maps are available for inspection at the Coconino County Department of Community Development, 2500 North Fort Valley Road, Building 1, Flagstaff, AZ 86001.
Evangeline Parish, Louisiana, and Incorporated Areas
Docket No.: FEMA-B-1038
Bayou Barwick Tributary | At the intersection of Bayou Barwick Tributary and Stagg Road | +44 | Unincorporated Areas of Evangeline Parish.
| At the intersection of Bayou Barwick Tributary and Highway 190 | +44
Bayou Joe Marcel Tributary #1 | At Alton Locks Street | +67 | City of Ville Platte.
| At Te Mamou Road | +67
Bayou Joe Marcel Tributary #2 | Approximately 522 feet upstream of Main Street (Base Flood Elevations extend to Bayou Joe Marcel Tributary #3) | +73 | City of Ville Platte.
| At Ortego Street (Base Flood Elevations extend to Bayou Joe Marcel Tributary #3) | +74
Bayou Joe Marcel Tributary #3 | Approximately 1,054 feet downstream of Reed Street (Base Flood Elevations extend to Bayou Joe Marcel Tributary #2) | +72 | City of Ville Platte.
| Approximately 197 feet downstream of Reed Street (Base Flood Elevations extend to Bayou Joe Marcel Tributary #2) | +74 |
* National Geodetic Vertical Datum.
+ North American Vertical Datum.
# Depth in feet above ground.
‸ Mean Sea Level, rounded to the nearest 0.1 meter.
ADDRESSES
City of Ville Platte
Maps are available for inspection at P.O. Box 390, Ville Platte, LA 70586.
Unincorporated Areas of Evangeline Parish
Maps are available for inspection at 200 Court Street, Suite 207, Ville Platte, LA 70586.
Pottawatomie County, Oklahoma, and Incorporated Areas
Docket No.: FEMA-B-1024
Tributary #1 to Rock Creek | At the confluence with Rock Creek | +974 | City of Shawnee.
| Approximately 1,565 feet upstream of Kickapoo Street | +986
Tributary #1 to Tributary #2 to Rock Creek | Approximately 500 feet downstream of Union Street | +989 | City of Shawnee.
| At 45th Street | +1,021
* National Geodetic Vertical Datum.
+ North American Vertical Datum.
# Depth in feet above ground.
‸ Mean Sea Level, rounded to the nearest 0.1 meter.
ADDRESSES
City of Shawnee
Maps are available for inspection at the Pottawatomie County Courthouse, 325 North Broadway, Shawnee, OK 74801.
Umatilla County, Oregon, and Incorporated Areas
Docket Number: FEMA-B-1049
Iskuupla Creek | At the confluence with the Umatilla River | +1,690 | Umatilla Indian Reservation.
| Approximately 1.0 mile upstream of Bingham Road | +1,779
Iskuupla Creek left bank split | Approximately 3,000 feet west along Bingham Road from Iskuupla Creek | +1,682 | Umatilla Indian Reservation.
| At the divergence from Iskuupla Creek | +1,707
Meacham Creek | At the confluence with the Umatilla River | +1,762 | Umatilla Indian Reservation.
| Just downstream of Meacham Creek Road Bridge and Railroad Bridge | +1,819
Umatilla River | Just upstream of State Highway 11 Bridge | +1,111 | City of Pendleton, Umatilla Indian Reservation, Unincorporated Areas of Umatilla County.
| Approximately 700 feet downstream of the confluence with Ryan Creek | +1,908
Walla Walla River | At Southeast 17th Avenue | #1 | City of Milton-Freewater, Unincorporated Areas of Umatilla County.
| At Northeast 15th Avenue | #1
Wildhorse Creek | At Range Line 32E/33E | +1,142 | Unincorporated Areas of Umatilla County.
| At Township Line 2N/3N | +1,154
* National Geodetic Vertical Datum.
+ North American Vertical Datum.
# Depth in feet above ground.
‸ Mean Sea Level, rounded to the nearest 0.1 meter.
ADDRESSES
City of Milton-Freewater
Maps are available for inspection at 722 South Main Street, Milton-Freewater, OR 97862.
City of Pendleton
Maps are available for inspection at 500 Southwest Dorion Avenue, Pendleton, OR 97801.
Umatilla Indian Reservation
Maps are available for inspection at 73239 Confederated Way, Pendleton, OR 97801.
Unincorporated Areas of Umatilla County
Maps are available for inspection at 216 Southeast 4th Street, Pendleton, OR 97801.
Fayette County, West Virginia, and Incorporated Areas
Docket No.: FEMA-B-1061
Smithers Creek | Approximately 700 feet downstream of Carbondale Road | +640 | Unincorporated Areas of Fayette County.
| Approximately 550 feet upstream of Carbondale Road | +651
* National Geodetic Vertical Datum.
+ North American Vertical Datum.
# Depth in feet above ground.
‸ Mean Sea Level, rounded to the nearest 0.1 meter.
ADDRESSES
Unincorporated Areas of Fayette County
Maps are available for inspection at the Fayette County Building, Safety Department, 100 Court Street, Fayetteville, WV 25840.

(Catalog of Federal Domestic Assistance No. 97.022, “Flood Insurance.”)

Dated: August 19, 2010.
Sandra K. Knight,
Deputy Federal Insurance and Mitigation Administrator, Mitigation, Department of Homeland Security, Federal Emergency Management Agency.

[FR Doc. 2010-21595 Filed 8-27-10; 8:45 am]

BILLING CODE 9110-12-P